DEPARTMENT OF HEALTH AND HUMAN SERVICES

Office of Child Support Enforcement

Grant to the State of Wisconsin, Department of Workforce Development

AGENCY: Office of Child Support Enforcement, ACF, DHHS.

ACTION: Notice of award.

SUMMARY: Notice is hereby given that a noncompetitive grant award is being made to the State of Wisconsin Department of Workforce Development to further support their Child Support Demonstration Evaluation project. This project will continue the evaluation of the Wisconsin child support passthrough and disregard policy, through the analysis of a later cohort of participants, longer-term follow-up, and an evaluation of the impact of changes in the pass-through policy.

This three-year project is being funded noncompetitively, because it is expected to provide valuable information useful to this Department and other practitioners regarding research and demonstration initiatives related to welfare reform, child support, and the well-being of low-income children and families. Wisconsin will build on their work in the Child Support Demonstration Evaluation project and do an extensive analysis of the effects of passing through child support payments to families as well as the effects on child support enforcement performance. The cost of the project is $463,836 for three years. The period of this funding will extend through September 29, 2003.

FOR FURTHER INFORMATION CONTACT: Gaile Maller, Office of Child Support Enforcement, Administration for Children and Families, 370 L'Enfant Promenade, SW., Washington, DC 20447, Telephone: 202-401-5368.

Dated: September 15, 2000.
David Gray Ross,
Commissioner, Office of Child Support Enforcement.

[FR Doc. 00-24596 Filed 9-25-00; 8:45 am]

BILLING CODE 4184-01-M